DEPARTMENT OF THE INTERIOR

National Park Service

[N6490; NPS-WASO-NAGPRA-NPS0041013; PPWOCRADN0-PCU00RP14.R50000]

Notice of Intended Repatriation: North Carolina State University, Gregg Museum of Art & Design, Raleigh, NC

AGENCY: National Park Service, Interior.

ACTION: Notice.

SUMMARY: In accordance with the Native American Graves Protection and Repatriation Act (NAGPRA), the Gregg Museum of Art & Design intends to repatriate a certain cultural item that meets the definition of a sacred object and that has a cultural affiliation with the Indian Tribes or Native Hawaiian organizations in this notice.

DATES: Repatriation of the cultural item in this notice may occur on or after October 6, 2025.

ADDRESSES: Send additional, written requests for repatriation of the cultural item in this notice to Lee Chavis-Tartaglia, North Carolina State University, Gregg Museum of Art & Design, 1903 Hillsborough Street, Campus Box 7330, Raleigh, NC 27695, email lgtartag@ncsu.edu.

SUPPLEMENTARY INFORMATION: This notice is published as part of the National Park Service's administrative responsibilities under NAGPRA. The determinations in this notice are the sole responsibility of the Gregg Museum of Art & Design, and additional information on the determinations in this notice, including the results of consultation, can be found in the summary or related records. The National Park Service is not responsible for the determinations in this notice.

Abstract of Information Available

A total of one cultural item has been requested for repatriation. The one sacred object is a “drinking gourd” ipu pawehe, ca. 1850. This item came to the Gregg Museum as a donation in 2020. The item was originally thought to be Cherokee by the donor, but later confirmed to be Hawaiian, potentially from the island of Ni'ihau. Based on consultation with Native Hawaiian Organizations, the Gregg Museum of Art & Design identifies this item as a sacred object of the Kingdom of Hawai'i. Gregg Museum of Art & Design records indicate no known hazardous substances.

Determinations

The Gregg Museum of Art & Design has determined that:

• The one sacred object described in this notice are specific ceremonial objects needed by a traditional Native American religious leader for present-day adherents to practice traditional Native American religion, according to the Native American traditional knowledge of a lineal descendant, Indian Tribe, or Native Hawaiian organization.

• There is a reasonable connection between the cultural item described in this notice and Hui Iwi Kuamo'o.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after October 6, 2025. If competing requests for repatriation are received, the Gregg Museum of Art & Design must determine the most appropriate requestor prior to repatriation. Requests for joint repatriation of the cultural item are considered a single request and not competing requests. The Gregg Museum of Art & Design is responsible for sending a copy of this notice to the Indian Tribes and Native Hawaiian organizations identified in this notice and to any other consulting parties.

Authority: Native American Graves Protection and Repatriation Act, 25 U.S.C. 3004 and the implementing regulations, 43 CFR 10.9.

Dated: August 26, 2025.
Melanie O'Brien,
Manager, National NAGPRA Program.

[FR Doc. 2025-17012 Filed 9-4-25; 8:45 am]

BILLING CODE 4312-52-P